DEPARTMENT OF HOUSING AND URBAN DEVELOPMENT

[Docket No. FR-5683-N-01]

Notice of Proposed Information Collection for Public Comment: Notice of Funding Availability for the Transformation Initiative: Rental Assistance Demonstration Research Grant Program

AGENCY: Office of the Chief Information Officer, HUD.

ACTION: Notice.

SUMMARY: The proposed information collection requirement described below will be submitted to the Office of Management and Budget (OMB) for review, as required by the Paperwork Reduction Act. The Department is soliciting public comments on the subject proposal. The U.S. Department of the Housing and Urban Development (HUD) intends to make funding available from the FY 2012 Transformation Initiative for Research Grants related to the Rental Assistance Demonstration. This information collection is for applications for funding, and reporting requirements for funded applications.

DATES: Comment Due Date: February 11, 2013.

ADDRESSES: Interested persons are invited to submit comments regarding this proposal. Comments should refer to the proposal by name and/or OMB Control Number (2577-XXXX) and should be sent to: HUD Desk Officer, Office of Management and Budget, New Executive Office Building, Washington, DC 20503; Email: OIRA_Submission_@omb.eop.gov; fax: 202-395-5806.

FOR FURTHER INFORMATION CONTACT: Colette Pollard, Reports Management Officer, QDAM, Department of Housing and Urban Development, 451 7th Street SW., Washington, DC 20410; email Colette.Pollard@hud.gov; telephone (202) 402-3400. This is not a toll-free number. Copies of available documents submitted to OMB may be obtained from Ms. Pollard.

SUPPLEMENTARY INFORMATION: The Department of Housing and Urban Development will submit the proposed extension of information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Notice of Funding Availability for the Transformation Initiative: Rental Assistance Demonstration Research Grant Program.

OMB Control Number: 2577-XXXX.

Description of the Need for the Information and Proposed Use: The U.S. Department of the Housing and Urban Development (HUD) intends to make funding available from the FY 2012 Transformation Initiative for Research Grants related to the Rental Assistance Demonstration. This information collection is for applications for funding, and reporting requirements for funded applications.

Agency Form Numbers: SF-424, SF-424 Supplemental, HUD-424-CB, SF-LLL, HUD-2880, HUD-2993, HUD-96010 and HUD-96011.

Members of the Affected Public: Eligible applicants include nationally recognized and accredited institutions of higher education, non-profit foundations, think tanks, research consortia or policy institutes, and for-profit organizations located in the U.S. Estimation of the total number of hours needed to prepare the information collection including number of respondents, frequency of response, and hours of response: Information pursuant to grant award will be submitted once a year. The following chart details the respondent burden on a quarterly and annual basis:

| Number of respondents | Total annual responses | Hours per response | Total hours
Applicants | 10 | 10 | 60 | 600
Quarterly Reports | 2 | 8 | 6 | 48
Final Reports | 2 | 2 | 2 | 4
Recordkeeping | 2 | 2 | 4 | 8
Total | 26 | 22 | 72 | 660

Status of the proposed information collection: Pending OMB approval.

Authority: Section 3506 of the Paperwork Reduction Act of 1995, 44 U.S.C. Chapter 35, as amended.

Dated: January 2, 2013.
Colette Pollard,
Department Reports Management Officer, Office of the Chief Information Officer.

[FR Doc. 2013-00297 Filed 1-9-13; 8:45 am]

BILLING CODE 4210-67-P